DEPARTMENT OF COMMERCE

National Oceanic and Atmospheric Administration

50 CFR Part 679

[Docket No. 000211040-0040-01; I.D. 022300A]

Fisheries of the Exclusive Economic Zone Off Alaska; Trawling in Steller Sea Lion Critical Habitat in the Central Aleutian District of the Bering Sea and Aleutian Islands

AGENCY: National Marine Fisheries Service (NMFS), National Oceanic and Atmospheric Administration (NOAA), Commerce.

ACTION: Modification of a closure.

SUMMARY: NMFS is opening trawling within Steller sea lion critical habitat in the Central Aleutian District of the Bering Sea and Aleutian Islands management area (BSAI). This action is necessary to fully utilize the critical habitat percentage of the 2000 harvest specifications of Atka mackerel allocated to the Central Aleutian District.

DATES: Effective 1200 hrs, Alaska local time (A.l.t.), February 23, 2000 until April 15, 2000.

FOR FURTHER INFORMATION CONTACT: Andrew Smoker, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

The A season apportionment of the 2000 total allowable catch for Atka mackerel in the Central Aleutian District is 11,424 metric tons (mt), of which no more than 7,654 mt may be harvested from critical habitat (65 FR 8282, February 18, 2000). See § 679.20(c)(3)(iii) and 679.22(a)(8)(iii)(B).

In accordance with § 679.22(a)(8)(iii)(A), Steller Sea lion critical habitat in the Central Aleutian District was closed to trawl gear to prevent exceeding the percentage of the interim harvest specifications of Atka mackerel allocated to the Central Aleutian District on February 10, 2000 (65 FR 7461, February 15, 2000). NMFS has determined that as of February 12, 2000, approximately 1,500 mt remains in the critical habitat percentage of the 2000 harvest specifications of Atka mackerel allocated to the Central Aleutian District.

The Administrator, Alaska Region, NMFS (Regional Administrator), has determined that the critical habitat percentage of the interim harvest specifications of Atka mackerel established for this District has not been caught. Therefore, NMFS is terminating the previous closure and is opening trawling in critical habitat, as defined at 50 CFR part 226, Table 1 and Table 2 in the Central Aleutian District of the BSAI. All other closures remain in full force and effect.

Classification

This action responds to the best available information recently obtained from the fishery. It must be implemented immediately to fully utilize the critical habitat percentage of the 2000 harvest specifications of Atka mackerel established for this District. Providing prior notice and opportunity for public comment for this action is impracticable and contrary to the public interest. NMFS finds for good cause that the implementation of this action cannot be delayed for 30 days. Accordingly, under 5 U.S.C. 553(d), a delay in the effective date is hereby waived.

This action is required by § 679.20 and is exempt from review under E.O. 12866.

Authority: 16 U.S.C. 1801 et seq.

Dated: February 23, 2000.
Bruce C. Morehead,
Acting Director, Office of Sustainable Fisheries, National Marine Fisheries Service.

[FR Doc. 00-4664 Filed 2-23-00; 4:20 pm]

BILLING CODE 3510-22-F